DEPARTMENT OF AGRICULTURE

Forest Service

Hiawatha East Resource Advisory Committee

AGENCY: Forest Service, USDA.

ACTION: Notice of meeting cancellations.

SUMMARY: The Hiawatha East Resource Advisory Committee (RAC) meetings scheduled on the dates below are cancelled. The meetings were scheduled to meet in Kincheloe, Michigan. The RAC is authorized under the Secure Rural Schools and Community Self-Determination Act (the Act) (Pub. L. 110-343) and operates in compliance with the Federal Advisory Committee Act (FACA) (Pub. L. 92-463).

DATES: The cancelled meetings were scheduled for 6:00 p.m. on the following dates:

• May 30, 2013

• June 20, 2013

• July 11, 2013

• August 15, 2013

• September 19, 2013

ADDRESSES: The cancelled meetings were to be held at the Chippewa County 911 Center, 4657 West Industrial Park Drive, Kincheloe, Michigan. Written comments concerning these cancellations may be submitted as described under For Further Information.

All comments, including names and addresses when provided, are placed in the record and are available for public inspection and copying. The public may inspect comments received at the Hiawatha National Forest (NF), Supervisor's Office. Please call ahead to facilitate entry into the building to view comments.

FOR FURTHER INFORMATION CONTACT: Janel Crooks, RAC Coordinator, USDA Forest Service, Hiawatha NF, Supervisor's Office, 820 Rains Drive, Gladstone, Michigan 49837; by phone at 906-428-5829 or via email at HiawathaNF@fs.fed.us.

Individuals who use telecommunication devices for the deaf (TDD) may call the Federal Information Relay Service (FIRS) at 1-800-877-8339 between 8:00 a.m. and 8:00 p.m., Eastern Standard Time, Monday through Friday.

Dated: November 25, 2013.
Stevan J. Christiansen,
Designated Federal Officer.

[FR Doc. 2013-29298 Filed 12-6-13; 8:45 am]

BILLING CODE 3410-11-P